DEPARTMENT OF HEALTH AND HUMAN SERVICES

Health Resources and Services Administration

White House Initiative on Asian Americans and Pacific Islanders, President's Advisory Commission; Notice of Meeting

In accordance with section 10(a)(2) of the Federal Advisory Committee Act (Public Law 92-463), announcement is made of the following National Advisory body scheduled to conduct a public meeting during the month of May 2002.

Name: President's Advisory Commission on Asian Americans and Pacific Islanders (AAPIs).

Date and Time: May 1, 2002; 1 p.m.-4:30 p.m. EDT. May 2, 2002; 12:30 p.m.-5:30 p.m. EDT.

Location: Marriott Wardman Park, 22660 Woodley Road, NW., Washington, DC 20008.

The meeting is open to the public.

The President's Advisory Commission on AAPIs will conduct a public meeting on May 1, 2002, from 1 p.m. to 4:30 p.m. EDT inclusive, and subsequent meeting on May 2, 2002, from 12:30 p.m.-5:30 p.m. inclusive.

Agenda items will include, but will not be limited to: testimony from community organizations and individuals; testimony from federal agencies; reports and recommendations from Commissioners; administrative tasks; deadlines; and upcoming events.

The purpose of the Commission is to advise the President on issues facing Asian Americans and Pacific Islanders.

Requests to address the Commission should be made in writing and should include the name, address, telephone number and business or professional affiliation of the interested party. Individuals or groups addressing similar issues are encouraged to combine comments and present through a single representative. The allocation of time for remarks may be adjusted to accommodate the level of expressed interest. Written requests should be faxed to (301) 443-0259.

Anyone who has interest in joining any portion of the meeting or who requires additional information about the Commission should contact: Mr. Erik F. Wang, Office of the White House Initiative on AAPIs, Parklawn Building, Room 10-42, 5600 Fishers Lane, Rockville, MD, 20857, Telephone (301) 443-2492. Anyone who requires special assistance, such as sign language interpretation or other reasonable accommodations, should contact Mr. Wang no later than April 22, 2002.

Dated: April 5, 2002.
Jane M. Harrison,
Director, Division of Policy Review and Coordination.

[FR Doc. 02-8841 Filed 4-11-02; 8:45 am]

BILLING CODE 4165-15-P